ENVIRONMENTAL PROTECTION AGENCY

[ER-FRL-9014-3]

Environmental Impact Statements; Notice of Availability

Responsible Agency: Office of Federal Activities, General Information (202) 564-7146 or http://www.epa.gov/compliance/nepa/.

Weekly receipt of Environmental Impact Statements Filed 03/24/2014 Through 03/28/2014 Pursuant to 40 CFR 1506.9.

Notice:

Section 309(a) of the Clean Air Act requires that EPA make public its comments on EISs issued by other Federal agencies. EPA's comment letters on EISs are available at: http://www.epa.gov/compliance/nepa/eisdata.html.

EIS No. 20140100, Final EIS, BLM, CO, Colorado River Valley Proposed Resource Management Plan, Review Period Ends: 05/05/2014, Contact: Brian Hopkins 970-876-9073.

EIS No. 20140101, Final EIS, FHWA, NY, New York Gateway Connections Improvement Project to the US Peace Bridge Plaza, Review Period Ends: 05/05/2014, Contact: Jonathan McDade 518-431-4127.

EIS No. 20140102, Final EIS, USFS, ID, Lost Creek-Boulder Creek Landscape Restoration Project, Review Period Ends: 05/12/2014, Contact: Holly Hutchinson 208-347-0325.

EIS No. 20140103, Final EIS, FERC, AZ, Sierrita Pipeline Project, Review Period Ends: 05/05/2014, Contact: David Hanobic 202-502-8312.

EIS No. 20140104, Final Supplement, FHWA, WI, Wisconsin State Highway 23, Fond du Lac to Plymouth, Contact: George Poirier 608-829-7500. Under MAP-21 section 1319, FHWA has issued a single SFEIS and ROD. Therefore, the 30-day wait/review period under NEPA does not apply to this action.

EIS No. 20140105, Draft EIS, NOAA, CA, Cordell Bank and Gulf of the Farallones Boundary Expansion, Comment Period Ends: 06/30/2014, Contact: Maria Brown 541-561-6622.

Amended Notices

EIS No. 20140074, Final EIS, USAF, 00, KC-46A Formal Training Unit (FTU) and First Main Operating Base (MOB 1) Beddown, Review Period Ends: 04/21/2014, Contact: Jean Reynolds 210-925-4534. Revision to the FR Notice Published 03/21/2014; Correction to the Agency Contact Phone Number 210-925-4534.

Dated: April 1, 2014.
Cliff Rader,
Director, NEPA Compliance Division, Office of Federal Activities.

[FR Doc. 2014-07584 Filed 4-3-14; 8:45 am]

BILLING CODE 6560-50-P